DEPARTMENT OF COMMERCE

International Trade Administration

[A-523-808]

Certain Steel Nails from the Sultanate of Oman: Final Results of Antidumping Duty Administrative Review; 2017-2018

AGENCY: Enforcement and Compliance, International Trade Administration, Department of Commerce.

SUMMARY: The Department of Commerce (Commerce) determines that Oman Fasteners LLC (Oman Fasteners) did not sell certain steel nails (steel nails) from the Sultanate of Oman (Oman) at less than normal value during the period of review (POR), July 1, 2017 through June 30, 2018.

DATES: Applicable December 27, 2019.

FOR FURTHER INFORMATION CONTACT: Thomas Martin, AD/CVD Operations, Office IV, Enforcement and Compliance, International Trade Administration, U.S. Department of Commerce, 1401 Constitution Avenue NW, Washington, DC 20230; telephone: (202) 482-3936.

SUPPLEMENTARY INFORMATION:

Background

On August 1, 2019, Commerce published the Preliminary Results of the 2017-2018 antidumping duty administrative review of steel nails from Oman.¹ On September 3, 2019, Oman Fasteners and Mid Continent Steel & Wire, Inc. (the petitioner) submitted case briefs.² On September 9, 2019, Oman Fasteners and the petitioner submitted rebuttal briefs.³ In its case brief, the petitioner requested that Commerce conduct a hearing in this proceeding. On November 4, 2019, the petitioner withdrew its request for a hearing.⁴

¹ See Certain Steel Nails from the Sultanate of Oman: Preliminary Results of Antidumping Duty Administrative Review and Partial Rescission of Antidumping Duty Administrative Review; 2017-2018, 84 FR 37620 (August 1, 2019) (Preliminary Results), and accompanying Preliminary Decision Memorandum.

² See Oman Fastener's Letter, “Certain Steel Nails from Oman; 3rd Administrative Review Case Brief,” dated September 3, 2019; see also Petitioner's Letter, “Certain Steel Nails from Oman: Case Brief and Request for Hearing,” dated September 3, 2019.

³ See Oman Fastener's Letter, “Certain Steel Nails from Oman; 3rd Administrative Review Oman Fasteners' Rebuttal Brief,” dated September 9, 2019; see also Petitioner's Letter, “Certain Steel Nails from Oman: Rebuttal Brief,” dated September 9, 2019.

⁴ See Petitioner's Letter, “Certain Steel Nails from Oman: Withdrawal of Hearing Request,” dated November 4, 2019.

Scope of the Order

The merchandise covered by this order are steel nails from Oman. For a complete description of the scope of the order, see the Issues and Decision Memorandum.⁵

⁵ See Memorandum, “Issues and Decision Memorandum for Final Results of the 2017-2018 Administrative Review of the Antidumping Duty Order on Certain Steel Nails from the Sultanate of Oman,” dated concurrently with, and hereby adopted by, this notice (Issues and Decision Memorandum).

Analysis of Comments Received

All issues raised in the case and rebuttal briefs are addressed in the Issues and Decision Memorandum. A list of the issues raised is attached to this notice as an appendix. The Issues and Decision Memorandum is a public document and is on file electronically via Enforcement and Compliance's Antidumping and Countervailing Duty Centralized Electronic Service System (ACCESS). ACCESS is available to registered users at https://access.trade.gov, and to all parties in the Central Records Unit, room B8024 of the main Commerce building. In addition, a complete version of the Issues and Decision Memorandum can be accessed directly at http://enforcement.trade.gov/frn/index.html. The signed and electronic versions of the Issues and Decision Memorandum are identical in content.

Changes Since the Preliminary Results

Based on our review of the record and comments received from interested parties, we made no revisions to the preliminary margin calculation for the sole mandatory respondent.⁶

⁶ See Memorandum, “Analysis Memorandum for the Preliminary Results of the Antidumping Duty Administrative Review of Certain Steel Nails from the Sultanate of Oman: Oman Fasteners, LLC,” dated July 24, 2019.

Final Results of the Administrative Review

We have determined the following weighted-average dumping margin applies to the firm listed below for the period July 1, 2017 through June 30, 2018:

Exporter/Producer | Weighted-average dumping margin (percent)
Oman Fasteners LLC | 0.00

Assessment Rates

Pursuant to section 751(a)(2)(A) of the Tariff Act of 1930, as amended (the Act), and 19 CFR 351.212(b)(1), Commerce will determine, and U.S. Customs and Border Protections (CBP) shall assess, antidumping duties on all appropriate entries of subject merchandise in accordance with the final results of this review. We will calculate importer-specific assessment rates on the basis of the ratio of the total amount of antidumping duties calculated for each importer's examined sales and the total entered value of the sales in accordance with 19 CFR 351.212(b)(1).

For entries of subject merchandise during the POR produced by the sole respondent, for which it did not know its merchandise was destined for the United States, we will instruct CBP to liquidate unreviewed entries at the all-others rate if there is no rate for the intermediate company(ies) involved in the transaction. We intend to issue liquidation instructions to CBP 15 days after publication of this notice.

Cash Deposit Requirements

The following cash deposit requirements will be effective upon publication of the notice of final results of administrative review for all shipments of subject merchandise entered, or withdrawn from warehouse, for consumption on or after the date of publication, as provided by section 751(a)(2) of the Act: (1) The cash deposit rate for the respondent noted above will be the rate established in the final results of this administrative review; (2) for merchandise exported by manufacturers or exporters not covered in this administrative review but covered in a prior segment of the proceeding, the cash deposit rate will continue to be the company-specific rate published for the most recently completed segment of this proceeding; (3) if the exporter is not a firm covered in this review, a prior review, or the original investigation, but the producer is, then the cash deposit rate will be the rate established for the most recently completed segment of this proceeding for the producer of the subject merchandise; and (4) the cash deposit rate for all other producers or exporters will continue to be 9.10 percent, the all-others rate established in the investigation.⁷ These cash deposit requirements, when imposed, shall remain in effect until further notice.

⁷ See Certain Steel Nails from the Sultanate of Oman: Final Determination of Sales at Less Than Fair Value, 80 FR 28972 (May 20, 2015).

Notification to Importers

This notice also serves as a final reminder to importers of their responsibility under 19 CFR 351.402(f) to file a certificate regarding the reimbursement of antidumping duties prior to liquidation of the relevant entries during the POR. Failure to comply with this requirement could result in Commerce's presumption that reimbursement of antidumping duties occurred and the subsequent assessment of doubled antidumping duties.

Administrative Protective Order

This notice also serves as a reminder to parties subject to administrative protective orders (APOs) of their responsibility concerning the return or destruction of proprietary information disclosed under APO in accordance with 19 CFR 351.305(a)(3). Timely written notification of the return or destruction of APO materials, or conversion to judicial protective order, is hereby requested. Failure to comply with the regulations and the terms of an APO is a sanctionable violation.

Notification to Interested Parties

We are issuing and publishing this notice in accordance with sections 751(a)(1) and 777(i) of the Act, and 19 CFR 351.221(b)(5).

Dated: December 18, 2019.
Jeffrey I. Kessler,
Assistant Secretary for Enforcement and Compliance.

Appendix—List of Topics Discussed in the Issues and Decision Memorandum

I. Summary

II. Background

III. Scope of the Order

IV. Changes Since the Preliminary Results

V. Discussion of the Issues

Comment 1: Which Financial Statement is the Appropriate Source for the Calculation of Constructed Value Profit and Indirect Selling Expenses

Comment 2: Whether Oman Fasteners is Affiliated with a Customer by Virtue of a Close Supplier Relationship

Comment 3: Whether Commerce Should Adjust the Per-Unit Zinc Cost

Comment 4: Whether Commerce Should Allow a Scrap Offset

Comment 5: Whether to Include Excluded Bad Debt Expenses Either in the General and Administrative (G&A) Expenses or in Indirect Selling Expenses

Comment 6: Whether Commerce's Differential Pricing Methodology is Unlawful

VI. Recommendation

[FR Doc. 2019-27933 Filed 12-26-19; 8:45 am]

BILLING CODE 3510-DS-P